DEPARTMENT OF ENERGY

Federal Energy Regulatory Commission

Combined Notice of Filings #1

Take notice that the Commission received the following electric rate filings:

Docket Numbers: ER11-4330-002.

Applicants: ISO New England Inc., Vermont Electric Cooperative, Inc.

Description: ISO New England Inc. submits tariff filing per 35.17(b): Second Supplemental Filing to Schedule 21-VEC Revisions to be effective 4/1/2011.

Filed Date: 11/28/2011.

Accession Number: 20111128-5152.

Comment Date: 5 p.m. Eastern Time on Monday, December 19, 2011.

Docket Numbers: ER12-175-001.

Applicants: PJM Interconnection, L.L.C.

Description: PJM Interconnection, L.L.C. submits tariff filing per 35.17(b): Errata to Queue No. X1-072, Original Service Agreement No. 3081 to be effective 9/22/2011.

Filed Date: 11/28/2011.

Accession Number: 20111128-5032.

Comment Date: 5 p.m. Eastern Time on Monday, December 19, 2011.

Docket Numbers: ER12-234-001.

Applicants: Pacific Gas and Electric Company.

Description: Pacific Gas and Electric Company submits tariff filing per 35.17(b): Amendment to Notices of Termination of Cantua and Giffen E&P Agreements to be effective 9/26/2011.

Filed Date: 11/25/2011.

Accession Number: 20111125-5000.

Comment Date: 5 p.m. Eastern Time on Friday, December 16, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2011.
Nathaniel J. Davis, Sr.,
Deputy Secretary.

[FR Doc. 2011-31383 Filed 12-6-11; 8:45 am]

BILLING CODE 6717-01-P